DEPARTMENT OF THE INTERIOR

Bureau of Land Management

[LLNM940000L1420000.BJ0000]

Notice of Filing of plats of survey, New Mexico

AGENCY: Bureau of Land Management, Interior.

ACTION: Notice of filing of Plats of Survey.

SUMMARY: The plats of survey described below are scheduled to be officially filed in the New Mexico State Office, Bureau of Land Management, Santa Fe, New Mexico, thirty (30) calendar days from the date of this publication.

FOR FURTHER INFORMATION CONTACT These plats will be available for inspection in the New Mexico State Office, Bureau of Land Management, 301 Dinosaur Trail, Santa Fe, New Mexico. Copies may be obtained from this office upon payment. Contact Marcella Montoya at 505-954-2097, or by e-mail at Marcella_Montoya@nm.blm.gov, for assistance.

SUPPLEMENTARY INFORMATION:

New Mexico Principal Meridian, New Mexico (NM)

The plat, representing the dependent resurvey and survey, in Township 10 South, Range 14 East, of the New Mexico Principal Meridian, accepted January 5, 2011, for Group 928 NM.

The plat, representing the dependent resurvey and survey, in Township 8 North, Range 2 East, of the New Mexico Principal Meridian, accepted January 26, 2011, for Group 1095 NM.

The plat, representing the dependent resurvey and survey, in Township 15 North, Range 2 East, of the New Mexico Principal Meridian, accepted February 24, 2011, for Group 1098 NM.

The supplemental plat, for Township 15 North, Range 1 East, of the New Mexico Principal Meridian accepted November 23, 2010.

Indian Meridian, Oklahoma (OK)

The plat, representing the dependent resurvey and survey in Township 23 North, Range 2 East, of the Indian Meridian, accepted December 6, 2010, for Group 196 OK.

The plat, representing the dependent resurvey and survey in Township 12 North, Range 20 East, of the Indian Meridian, accepted January 14, 2011, for Group 194 OK.

The plat, representing the dependent resurvey and survey in Township 3 South, Range 5 West, of the Indian Meridian, accepted January 25, 2011, for Group 191 OK.

The plat, in two sheets, representing the dependent resurvey and survey in Township 7 North, Range 9 West, of the Indian Meridian, accepted January 31, 2011, for Group 185 OK.

If a protest against a survey, in accordance with 43 CFR 4.450-2, of the above plat is received prior to the date of official filing, the filing will be stayed pending consideration of the protest. A plat will not be officially filed until the day after all protests have been addressed.

If a protest against a survey, as shown on any of the above plats, is received prior to the date of official filing, the filing will be stayed pending consideration of the protest. A plat will not be officially filed until the day after all protests have been dismissed and become final or appeals from the dismissal affirmed.

A person or party who wishes to protest against any of these surveys must file a written protest with the Bureau of Land Management New Mexico State Director stating that they wish to protest.

A statement of reasons for a protest may be filed with the notice of protest to the State Director or the statement of reasons must be filed with the State Director within thirty (30) days after the protest is filed.

Robert A. Casias,
Deputy State Director of Cadastral, Survey/GeoSciences.

[FR Doc. 2011-6642 Filed 3-21-11; 8:45 am]

BILLING CODE 4310-FB-P